DEPARTMENT OF ENERGY

Federal Energy Regulatory Commission

Combined Notice of Filings

Take notice that the Commission has received the following Natural Gas & Oil Pipeline Rate and Refund Report filings:

Filings Instituting Proceedings

Docket Numbers: PR23-49-000.

Applicants: Columbia Gas of Ohio, Inc.

Description: § 284.123 Rate Filing: COH Rates effective 3-30-2023 to be effective 3/30/2023.

Filed Date: 4/28/23.

Accession Number: 20230428-5110.

Comment Date: 5 p.m. ET 5/19/23.

Docket Numbers: RP23-715-000.

Applicants: Midship Pipeline Company, LLC.

Description: Compliance filing: Midship Pipeline CP17-458 Compliance Filing to be effective N/A.

Filed Date: 4/27/23.

Accession Number: 20230427-5229.

Comment Date: 5 p.m. ET 5/9/23.

Docket Numbers: RP23-716-000.

Applicants: El Paso Natural Gas Company, L.L.C.

Description: § 4(d) Rate Filing: Negotiated Rate Agmt Update (Conoco—May 23) to be effective 5/1/2023.

Filed Date: 4/27/23.

Accession Number: 20230427-5242.

Comment Date: 5 p.m. ET 5/9/23.

Docket Numbers: RP23-717-000.

Applicants: El Paso Natural Gas Company, L.L.C.

Description: § 4(d) Rate Filing: Negotiated Rate Agreement Update (SoCal May 2023) to be effective 5/1/2023.

Filed Date: 4/27/23.

Accession Number: 20230427-5251.

Comment Date: 5 p.m. ET 5/9/23.

Docket Numbers: RP23-718-000.

Applicants: Cameron Interstate Pipeline, LLC.

Description: Annual Interruptible Revenue Sharing Report of Cameron Interstate Pipeline, LLC.

Filed Date: 4/27/23.

Accession Number: 20230427-5336.

Comment Date: 5 p.m. ET 5/9/23.

Docket Numbers: RP23-719-000.

Applicants: Transcontinental Gas Pipe Line Company, LLC.

Description: § 4(d) Rate Filing: Negotiated Rates—Cherokee AGL—Replacement Shippers—May 2023 to be effective 5/1/2023.

Filed Date: 4/27/23.

Accession Number: 20230427-5357.

Comment Date: 5 p.m. ET 5/9/23.

Docket Numbers: RP23-720-000.

Applicants: Gulfstream Natural Gas System, L.L.C.

Description: § 4(d) Rate Filing: 2023 GNGS TUP/SBA Annual Filing to be effective 6/1/2023.

Filed Date: 4/28/23.

Accession Number: 20230428-5031.

Comment Date: 5 p.m. ET 5/10/23.

Docket Numbers: RP23-721-000.

Applicants: Fayetteville Express Pipeline LLC.

Description: Compliance filing: Fuel Filing on 4-28-2023 to be effective N/A.

Filed Date: 4/28/23.

Accession Number: 20230428-5035.

Comment Date: 5 p.m. ET 5/10/23.

Docket Numbers: RP23-722-000.

Applicants: ETC Tiger Pipeline, LLC.

Description: § 4(d) Rate Filing: Fuel Filing on 4-28-2023 to be effective 6/1/2023.

Filed Date: 4/28/23.

Accession Number: 20230428-5039.

Comment Date: 5 p.m. ET 5/10/23.

Docket Numbers: RP23-723-000.

Applicants: Colorado Interstate Gas Company, L.L.C.

Description: § 4(d) Rate Filing: Negotiated Rate Agreement Filing (TMV May 23) to be effective 6/1/2023.

Filed Date: 4/28/23.

Accession Number: 20230428-5067.

Comment Date: 5 p.m. ET 5/10/23.

Docket Numbers: RP23-725-000.

Applicants: Cameron Interstate Pipeline, LLC.

Description: Annual Transportation and Imbalances and Cash-Out Report of Cameron Interstate Pipeline, LLC.

Filed Date: 4/27/23.

Accession Number: 20230427-5446.

Comment Date: 5 p.m. ET 5/9/23.

Docket Numbers: RP23-726-000.

Applicants: Cameron Interstate Pipeline, LLC.

Description: Annual Operational Transactions Report of Cameron Interstate Pipeline, LLC.

Filed Date: 4/27/23.

Accession Number: 20230427-5447.

Comment Date: 5 p.m. ET 5/9/23.

Docket Numbers: RP23-727-000.

Applicants: Cameron Interstate Pipeline, LLC.

Description: Annual Operational Imbalances and Cash-Out Report of Cameron Interstate Pipeline, LLC.

Filed Date: 4/27/23.

Accession Number: 20230427-5448.

Comment Date: 5 p.m. ET 5/9/23.

Docket Numbers: RP23-728-000.

Applicants: Cameron Interstate Pipeline, LLC.

Description: Annual Penalty Revenues Report of Cameron Interstate Pipeline, LLC.

Filed Date: 4/27/23.

Accession Number: 20230427-5449.

Comment Date: 5 p.m. ET 5/9/23.

Docket Numbers: RP23-729-000.

Applicants: Gulf South Pipeline Company, LLC.

Description: § 4(d) Rate Filing: Cap Rel Neg Rate Agmt (Methanex 42805 to Tenaska 56239) to be effective 5/1/2023.

Filed Date: 4/28/23.

Accession Number: 20230428-5099.

Comment Date: 5 p.m. ET 5/10/23.

Docket Numbers: RP23-730-000.

Applicants: Wyoming Interstate Company, L.L.C.

Description: § 4(d) Rate Filing: Negotiated Rate Agreement Update (Castleton) to be effective 6/1/2023.

Filed Date: 4/28/23.

Accession Number: 20230428-5116.

Comment Date: 5 p.m. ET 5/10/23.

Docket Numbers: RP23-731-000.

Applicants: Kern River Gas Transmission Company.

Description: § 4(d) Rate Filing: 2023 April Negotiated Contract Amendment to be effective 5/1/2023.

Filed Date: 4/28/23.

Accession Number: 20230428-5123.

Comment Date: 5 p.m. ET 5/10/23.

Docket Numbers: RP23-732-000.

Applicants: ANR Pipeline Company.

Description: § 4(d) Rate Filing: Cashout Surchage 2023 to be effective 6/1/2023.

Filed Date: 4/28/23.

Accession Number: 20230428-5169.

Comment Date: 5 p.m. ET 5/10/23.

Docket Numbers: RP23-733-000.

Applicants: Northern Natural Gas Company.

Description: § 4(d) Rate Filing: 20230428 Negotiated Rate to be effective 5/1/2023.

Filed Date: 4/28/23.

Accession Number: 20230428-5206.

Comment Date: 5 p.m. ET 5/10/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP20-1042-003.

Applicants: Northern Natural Gas Company.

Description: Compliance filing: 20230427 2023 Operational Purchase and Sales Report to be effective N/A.

Filed Date: 4/27/23.

Accession Number: 20230427-5329.

Comment Date: 5 p.m. ET 5/9/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2023.
Debbie-Anne A. Reese,
Deputy Secretary.

[FR Doc. 2023-09497 Filed 5-3-23; 8:45 am]

BILLING CODE 6717-01-P